DEPARTMENT OF ENERGY

Federal Energy Regulatory Commission

[Project No. 2964-006, Michigan]

City of Sturgis; Notice of Availability of Draft Environmental Assessment

January 14, 2000.

In accordance with the National Environmental Policy Act of 1969 and the Federal Energy Regulatory Commission's (Commission's) regulations, 18 CFR Part 380 (Order No. 486, 52 FR 47897), the Office of Hydropower Licensing has reviewed the application for relicensing of the Sturgis Hydroelectric Project, located on the St. Joseph River in St. Joseph County, Michigan, and has prepared a draft Environmental Assessment (DEA) for the project. In the DEA, the Commission's staff has analyzed the potential environmental impacts of the existing project and has concluded that approval of the project, with appropriate environmental protection measures, would not constitute a major federal action significantly affecting the quality of the human environment.

Copies of the DEA are available for review in the Public Reference Branch, Room 2-A, of the Commission's offices at 888 First Street, NE, Washington, DC 20426. The DEA also may be viewed on the web at http://www.ferc.fed.us/online/rims.htm (call 202-208-2222 for assistance).

Any comments should be filed within 45 days from the date of this notice and should be addressed to David P. Boergers, Secretary, Federal Energy Regulatory Commission, 888 First Street, NE, Room 1-A, Washington, DC 20426. Please affix “Sturgis Hydroelectric Project No. 2964-006” to all comments. For further information, please contact Patrick Murphy at 202-219-2659.

Linwood A. Watson, Jr.,
Acting Secretary.

[FR Doc. 00-1431 Filed 1-20-00; 8:45 am]

BILLING CODE 6717-01-M